DEPARTMENT OF THE INTERIOR

National Park Service

Notice of Inventory Completion: The University of Montana, Missoula, MT, and U.S. Department of the Interior, Bureau of Indian Affairs, Washington, DC

AGENCY: National Park Service, Interior.

ACTION: Notice.

Notice is here given in accordance with the Native American Graves Protection and Repatriation Act (NAGPRA), 25 U.S.C. 3003, of the completion of an inventory of human remains in the possession of The University of Montana, Missoula, MT, and in the control of the U.S. Department of the Interior, Bureau of Indian Affairs, Washington, DC. The human remains were removed from the Flathead Indian Reservation, Lake County, MT.

This notice is published as part of the National Park Service’s administrative responsibilities under NAGPRA, 25 U.S.C. 3003 (d)(3). The determinations within this notice are the sole responsibility of the museum, institution, or Federal agency that has control of the Native American human remains. The National Park Service is not responsible for the determinations within this notice.

A detailed assessment of the human remains was made by The University of Montana and the Bureau of Indian Affairs professional staff in consultation with representatives of the Confederated Salish & Kootenai Tribes of the Flathead Reservation, Montana.

In 1950, human remains (UMFC44) representing a minimum of one individual were removed from an unknown location on the Flathead Indian Reservation, Lake County, MT. Although the human remains are too fragmentary to evaluate ancestry with certainty, some characteristics are present that are typical of Native Americans. Moreover, the degree of weathering of the human remains is consistent with a prehistoric age, and the human remains are therefore considered to be Native American. No known individual was identified. No associated funerary objects are present.

In 1979, human remains (UMFC56) representing a minimum of one individual were removed by Lake County law enforcement authorities from an undisclosed location on the Flathead Indian Reservation, Lake County, MT. The character of the dental wear is similar to that on prehistoric Native American individuals from the region and the human remains therefore are considered most likely Native American. No known individual was identified. No associated funerary objects are present.

The Lake County Sheriff/Coroner had custody of the human remains until May 2002. At that time, The University of Montana sought and received custody of the human remains from the Lake County Sheriff/Coroner for the purpose of returning the human remains to Native American tribes pursuant to applicable State and Federal laws.

The region from which the human remains originated was inhabited during prehistoric and historic times by the ancestors of the present-day Confederated Salish & Kootenai Tribes of the Flathead Indian Reservation, Montana. On the basis of oral traditions; geographic, kinship, archeological, anthropological, and historical data; and study of the human remains, the University of Montana has determined that the human remains are culturally affiliated with members of the Confederated Salish & Kootenai Tribes of the Flathead Reservation, Montana.

Officials of The University of Montana and the Bureau of Indian Affairs have determined that, pursuant to 25 U.S.C. 3001 (9-10), the human remains described above represent the physical remains of two individuals of Native American ancestry. Officials of The University of Montana and the Bureau of Indian Affairs also have determined that, pursuant to 25 U.S.C. 3001 (2), there is a relationship of shared group identity that can be reasonably traced between the Native American human remains and the Confederated Salish & Kootenai Tribes of the Flathead Reservation, Montana.

Representatives of any other Indian tribe that believes itself to be culturally affiliated with the human remains should contact Thomas A. Foor, Professor, Department of Anthropology, The University of Montana, Missoula, MT 59806, telephone (406) 243-2971, before September 19, 2003. Repatriation of the human remains to the Confederated Salish & Kootenai Tribes of the Flathead Reservation, Montana may proceed after that date if no additional claimants come forward.

The University of Montana is responsible for notifying the Confederated Salish & Kootenai Tribes of the Flathead Reservation, Montana that this notice has been published.

Dated: July 8, 2003.
John Robbins,
Assistant Director, Cultural Resources.

[FR Doc. 03-21337 Filed 8-19-03; 8:45 am]

BILLING CODE 4310-70-S